DEPARTMENT OF LABOR

Employment and Training Administration

[TA-W-65,222]

Friction, LLC, Crawfordsville, IN; Notice of Termination of Investigation

Pursuant to Section 221 of the Trade Act of 1974, as amended, investigations were initiated on February 6, 2009 and February 22, 2009 in response to petitions filed by a company official on behalf of workers of Friction LLC, Greenwood, Mississippi (TA-W-65,156) and Friction, LLC, Crawfordsville, Indiana (TA-W-65,222), respectively.

The petition filed on behalf of workers at Friction, LLC, Crawfordsville, Indiana, was determined under TA-W-65,156.

Consequently, further investigation of this case, TA-W-65,222, would serve no purpose, and the investigation has been terminated.

Signed at Washington, DC, this 5th day of March 2009.
Richard Church,
Certifying Officer, Division of Trade Adjustment Assistance.

[FR Doc. E9-5910 Filed 3-18-09; 8:45 am]

BILLING CODE 4510-FN-P